DEPARTMENT OF HOUSING AND URBAN DEVELOPMENT

Office of Federal Housing Enterprise Oversight

12 CFR Chap. XVII

Notice of Regulatory Review

AGENCY: Office of Federal Housing Enterprise Oversight, HUD.

ACTION: Request for comments.

SUMMARY: The Office of Federal Housing Enterprise Oversight (OFHEO) is issuing notice of a regulatory review that will be conducted in accordance with the process set forth in OFHEO Policy Guidance titled, “Regulatory Review,” which was issued on April 2, 2001 (Doc. #: PG-01-001) (Policy Guidance). OFHEO will review its regulations to consider whether existing regulations have become inefficient or create unwarranted burden, and will identify possible revisions where such conditions are found. OFHEO is seeking public comment on its regulations for consideration in the regulatory review.

DATES: Written comments on this Notice must be received no later than November 7, 2005. For additional information, see SUPPLEMENTARY INFORMATION.

ADDRESSES: You may submit your comments to this Notice by any of the following methods:

• U.S. Mail, United Parcel Post, Federal Express, or Other Mail Service: The mailing address for comments is: David A. Felt, Acting General Counsel, Attention: Comments/Notice of Regulatory Review, Office of Federal Housing Enterprise Oversight, Fourth Floor, 1700 G Street, NW., Washington, DC 20552.

• Hand Delivery/Courier: The hand delivery address is: David A. Felt, Acting General Counsel, Attention: Comments/Notice of Regulatory Review, Office of Federal Housing Enterprise Oversight, Fourth Floor, 1700 G Street, NW., Washington, DC 20552. The package should be logged at the Guard Desk, First Floor, between 9 a.m. and 5 p.m. on business days.

• E-mail: Comments to David A. Felt, Acting General Counsel, may be sent by e-mail at RegComments@OFHEO.gov. Please include the title, Notice of Regulatory Review, in the subject line of the message.

Instructions: OFHEO requests that comments to this Notice include a reference to the title, Notice of Regulatory Review. OFHEO further requests that comments submitted in hard copy also be accompanied by the electronic version in Microsoft(®) Word or in portable document format (PDF) on 3.5″ disk. Please see the section, SUPPLEMENTARY INFORMATION, below, for additional information on the posting and viewing of comments.

FOR FURTHER INFORMATION CONTACT: David A. Felt, Acting General Counsel, telephone (202) 414-3750 (not a toll-free number); or Tina Dion, Associate General Counsel, telephone (202) 414-3838 (not a toll-free number); Office of Federal Housing Enterprise Oversight, Fourth Floor, 1700 G Street, NW., Washington, DC 20552. The telephone number for the Telecommunications Device for the Deaf is (800) 877-8339.

SUPPLEMENTARY INFORMATION:

Background

The Federal Housing Enterprises Safety and Soundness Act of 1992, Title XIII of Pub. L. 102-550, empowers the Director of OFHEO to undertake rulemaking and such other actions as the Director determines to be appropriate to oversee the activities and operations of Freddie Mac and Fannie Mae (the Enterprises). In the course of exercising such authority, the Director has promulgated regulations and issued guidelines and supervisory policies.

OFHEO's Policy Guidance

http://www.ofheo.gov/News.asp?formmode=Regulations creates a process for routine review and, where appropriate, revision of regulations by OFHEO. Such a process provides for planned reviews of the regulatory infrastructure and for considering information under uniform criteria that assists in determinations of whether an unnecessary burden exists. Once a review is completed, the Director will determine what steps may be necessary to relieve any unnecessary burden, including amendment to or repeal of existing regulations or issuance of less formal guidance.

The General Counsel, as the OFHEO Regulatory Policy Officer, is charged with undertaking the regulatory review and reporting findings and recommendations to the Director. The review process will be conducted by the Office of General Counsel, under the direction of the General Counsel, and will include internal consultation with other OFHEO offices and staff, guidance provided by the Director, as well as consideration of public comments. A review and report of findings and recommendations will be provided to the Director on a timely basis. The report of findings and recommendations will be privileged and confidential. Notably, the regulatory review to be conducted by the Office of the General Counsel under the Policy Guidance is not a formal or informal rulemaking proceeding under the Administrative Procedure Act and creates no right of action against OFHEO. Moreover, the determination of OFHEO to conduct or not to conduct a review of a regulation and any determination, finding, or recommendation resulting from any review under the Policy Guidance are not final agency actions and, as such, are not subject to judicial review.

Regulations Under Review; Criteria

The regulations of OFHEO that are subject to the regulatory review described in this Notice are codified in Title 12, Chapter XVII, Subchapters A, C, and D, Parts 1700-1780 of the Code of Federal Regulations (CFR). The regulations are listed in the CFR as follows:

Subchapter A—OFHEO Organization and Functions

Part

1700—Organization and functions

1701—Assessments

1702 Implementation of The Privacy Act of 1974

1703—Release of information

1704 Debt collection

1705 Implementation of the Equal Access to Justice Act

Subchapter B—[Reserved]

Subchapter C—Safety and Soundness

1710—Corporate governance

1720—Safety and soundness

1730—Disclosure of financial and other information

1731—Mortgage Fraud Reporting

1750—Capital

1770—Executive compensation

1773—Flood insurance

1777—Prompt corrective action

Subchapter D—Rules of Practice and Procedure

1780—Rules of Practice and Procedure

In addition to being found in the CFR, the regulations (as well as the Policy Guidance referenced in this Notice) are available on the OFHEO Web site, http://www.ofheo.gov, by clicking on the “Regulations and Policy Guidance” category on the left side of the Web page.

Under the review process set forth in the Policy Guidance, criteria that may be used in the review of the existence of regulatory inefficiency or burden are as follows:

(i) Legal or regulatory developments, including new laws, executive orders or judicial decisions that have been adopted since the promulgation of a regulation that make such regulation inefficient, obsolete, contrary to controlling legal precedent or unduly burdensome;

(ii) Application by an Enterprise for revision of a regulation, because of reasonably discernible regulatory burden or inefficiency;

(iii) Marketplace developments, technological evolution and related changes that may have rendered an existing regulation, in whole or in part, inefficient, outmoded or outdated; and

(iv) Such other occurrences or developments as determined by the Director or General Counsel to be relevant to a review for inefficiency or unwarranted regulatory burden.

Among other factors that may be considered in reviewing possible inefficiency or unwarranted regulatory burden are the following:

(i) Compelling evidence that a consolidation of two or more regulations, elimination of a duplicative regulation, or other revision to regulatory requirements would facilitate compliance or supervision;

(ii) A demonstration of a better alternative method to effect a regulatory purpose or requirement supported by compelling evidence of significantly less intrusive means or of a substantially more efficient method of accomplishing the same supervisory purpose; and

(iii) Such other factors as determined by the Director to be relevant to determining and evaluating the need for, appropriateness of, and effectiveness of a particular regulation.

Request for Comments

The Office of the General Counsel invites comments on all aspects of the proposed regulatory review, including legal and policy considerations, and will take all comments into consideration before issuing its report of findings and recommendations to the Director. The comment period has been set at 60 days to afford ample opportunity for comment.

All comments received will be posted without change to http://www.ofheo.gov, including any personal information provided. Copies of all comments received will be available for inspection by the public on business days between the hours of 10 a.m. and 3 p.m., at the Office of Federal Housing Enterprise Oversight, Fourth Floor, 1700 G Street NW., Washington, DC 20552. To make an appointment to inspect comments, please call the Office of General Counsel at (202) 414-6924.

Dated: August 30, 2005.
Stephen A. Blumenthal,
Acting Director, Office of Federal Housing Enterprise Oversight.

[FR Doc. 05-17656 Filed 9-6-05; 8:45 am]

BILLING CODE 4220-01-P